SMALL BUSINESS ADMINISTRATION

[Disaster Declaration #17889 and #17890; TEXAS Disaster Number TX-00652]

Presidential Declaration Amendment of a Major Disaster for Public Assistance Only for the State of Texas

AGENCY: U.S. Small Business Administration.

ACTION: Amendment 1.

SUMMARY: This is an amendment of the Presidential declaration of a major disaster for Public Assistance Only for the State of Texas (FEMA-4705-DR), dated 04/21/2023.

Incident: Severe Winter Storm.

Incident Period: 01/30/2023 through 02/02/2023.

DATES: Issued on 05/08/2023.

Physical Loan Application Deadline Date: 06/20/2023.

Economic Injury (EIDL) Loan Application Deadline Date: 01/22/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Texas, dated 04/21/2023, is hereby amended to include the following areas as adversely affected by the disaster.

Primary Counties: Anderson, Falls, Gillespie, Hopkins, Kerr, Kimble, Limestone, Red River.

All other information in the original declaration remains unchanged.

(Catalog of Federal Domestic Assistance Number 59008)

Francisco Sánchez, Jr.,
Associate Administrator, Office of Disaster Recovery & Resilience.

[FR Doc. 2023-10308 Filed 5-12-23; 8:45 am]

BILLING CODE 8026-09-P